DEPARTMENT OF THE INTERIOR

National Park Service

Notice of Intent To Extend Concession Contract for Services at Olympic, Big Bend, Mammoth Cave, and Isle Royale National Parks and Blue Ridge Parkway

Summary: Pursuant to the National Park Service Concessions Management Improvement Act of 1998, notice is hereby given that the National Park Service intends to extend the concession contract authorizing continued food and beverage, general merchandise, automobile service, transportation, marina, gift shop, and overnight accommodations at Olympic, Big Bend, Mammoth Cave, and Isle Royale National Parks and Blue Ridge parkway. The extension will be for a term of not more than 3 years. This extension is necessary to avoid interruption of public services while the National Park Service evaluates the long-term needs of each park. This extension will be for a 3-year period beginning September 21, 2002. This notice is pursuant to 36 CFR Part 51, § 51.24(a).

Supplementary Information: The current concession contract for these parks expired on September 20, 2002. This contract is unique in that when it was executed in 1982, all parks were covered under one authorization. The extension will allow for individual park contracts to be developed, a prospectus to be released and a new, long-term contract awarded.

Information about this notice can be sought from: National Park Service, Concession Program Manager, 1849 C Street, NW., (2410), Washington, DC 20240 or call 202/513-7156.

Dated: September 23, 2002.
Richard G. Ring,
Associate Director for Park Operations and Education.

[FR Doc. 02-26603 Filed 10-17-02; 8:45 am]

BILLING CODE 4310-70-M